Title 3—

The President

Proclamation 8698 of August 5, 2011

National Health Center Week, 2011

By the President of the United States of America

A Proclamation

Across our Nation, over 19 million Americans look to community health centers for medical checkups, education, advice, and critical services that keep them healthy. Throughout National Health Center Week, we recommit to supporting this vital resource for underserved communities, and we recognize the critical role community health centers play in our health-care system.

Every day, men, women, and children find help at community health centers. These centers lead the way in providing high-quality services at an affordable cost, while lifting up the quality of life for their patients. We see the results among Medicaid beneficiaries—those receiving care from a health center are less likely to be unnecessarily hospitalized or visit an emergency room. We also see the effects in rural areas with community health centers, where hospitals see fewer uninsured emergency room visits. These health centers are easy to access—Americans can find a health center near them by using the “Find a Health Center” tool at www.HRSA.gov.

My Administration continues to support these centers. Between the American Recovery and Reinvestment Act and the Affordable Care Act, new funding has been committed to support technology and infrastructure updates to existing centers, as well as the construction of new ones. These laws also provided for important new initiatives that will benefit all Americans. The Affordable Care Act provided for the Health Centers Advanced Primary Care Practice demonstration project, which will use community health centers to test the impact of team-based treatment approaches on the care of elderly patients.

Across our vast and diverse land, Americans have always made it their duty to serve their neighbors in need. It is the common interest and purpose of building a stronger, healthier Nation that drives the work of community health centers and fuels our efforts to improve our health-care system. During National Health Center Week, we celebrate the contributions of community health centers, and we rededicate ourselves to advancing the well-being of all our people.

NOW, THEREFORE, I, BARACK OBAMA, President of the United States of America, by virtue of the authority vested in me by the Constitution and the laws of the United States, do hereby proclaim the week of August 7 through August 13, 2011, as National Health Center Week. I encourage all Americans to celebrate this week by visiting their local community health center, meeting local health center providers, and exploring the programs they offer to help keep their families healthy.

IN WITNESS WHEREOF, I have hereunto set my hand this fifth day of August, in the year of our Lord two thousand eleven, and of the Independence of the United States of America the two hundred and thirty-sixth.

[FR Doc. 2011-20497

Filed 8-9-11; 11:15 am]

Billing code 3195-W1-P